DEPARTMENT OF HOMELAND SECURITY

Federal Emergency Management Agency

[Docket ID FEMA-2018-0002; Internal Agency Docket No. FEMA-B-1871]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

David I. Maurstad,
Deputy Associate Administrator for Insurance and Mitigation, Department of Homeland Security, Federal Emergency Management Agency.

State and county | Location and case No. | Chief executive officer of community | Community map repository | Online location of letter of map revision | Date of modification | Community No.
Colorado:
Adams | City of Westminster (18-08-0635P) | The Honorable Herb Atchison, Mayor, City of Westminster, 4800 West 92nd Avenue, Westminster, CO 80031 | City Hall, 4800 West 92nd Avenue, Westminster, CO 80031 | https://msc.fema.gov/portal/advanceSearch | Feb. 14, 2019 | 080008
Adams | Unincorporated areas of Adams County (18-08-0635P) | The Honorable Mary Hodge, Chair, Adams County Board of Commissioners, 4430 South Adams County Parkway, 5th Floor, Suite C5000A, Brighton, CO 80601 | Adams County, Development Engineering Services Department, 4430 South Adams County Parkway, Brighton, CO 80601 | https://msc.fema.gov/portal/advanceSearch | Feb. 14, 2019 | 080001
Boulder | City of Boulder (18-08-1141P) | The Honorable Suzanne Jones, Mayor, City of Boulder, 1777 Broadway Street, Boulder, CO 80306 | Central Records Department, 1777 Broadway Street, Boulder, CO 80306 | https://msc.fema.gov/portal/advanceSearch | Mar. 5, 2019 | 080024
Garfield | City of Rifle (18-08-0695P) | Mr. Scott Hahn, Manager, City of Rifle, 202 Railroad Avenue, Rifle, CO 81650 | City Hall, 202 Railroad Avenue, Rifle, CO 81650 | https://msc.fema.gov/portal/advanceSearch | Feb. 8, 2019 | 085078
Garfield | Unincorporated areas of Garfield County (18-08-0695P) | The Honorable John Martin, Chairman, Garfield County Board of Commissioners, 108 8th Street, Suite 101, Glenwood Springs, CO 81601 | Garfield County Courthouse, 108 8th Street, Glenwood Springs, CO 81601 | https://msc.fema.gov/portal/advanceSearch | Feb. 8, 2019 | 080205
Larimer | City of Fort Collins (17-08-1354P) | The Honorable Wade Troxell, Mayor, City of Fort Collins, 300 LaPorte Avenue, Fort Collins, CO 80521 | Stormwater Utilities Department, 700 Wood Street, Fort Collins, CO 80521 | https://msc.fema.gov/portal/advanceSearch | Feb. 21, 2019 | 080102
Larimer | Town of Timnath (17-08-1354P) | The Honorable Jill Grossman-Belisle, Mayor, Town of Timnath, 4800 Goodman Street, Timnath, CO 80547 | Town Hall, 4800 Goodman Street, Timnath, CO 80547 | https://msc.fema.gov/portal/advanceSearch | Feb. 21, 2019 | 080005
Larimer | Unincorporated areas of Larimer County (17-08-1354P) | The Honorable Steve Johnson, Chairman, Larimer County Board of Commissioners, P.O. Box 1190, Fort Collins, CO 80522 | Larimer County Engineering Department, 200 West Oak Street, Suite 3000, Fort Collins, CO 80521 | https://msc.fema.gov/portal/advanceSearch | Feb. 21, 2019 | 080101
Connecticut:
Fairfield | City of Norwalk (18-01-1147P) | The Honorable Harry W. Rilling, Mayor, City of Norwalk, 125 East Avenue, Norwalk, CT 06851 | Planning and Zoning Department, 125 East Avenue, Norwalk, CT 06851 | https://msc.fema.gov/portal/advanceSearch | Feb. 21, 2019 | 090012
Florida:
Broward | City of Parkland (18-04-4986P) | The Honorable Christine Hunschofsky, Mayor, City of Parkland, 6600 University Drive, Parkland, FL 33067 | City Hall, 6600 University Drive, Parkland, FL 33067 | https://msc.fema.gov/portal/advanceSearch | Mar. 5, 2019 | 120051
Lee | City of Sanibel (18-04-3740P) | The Honorable Kevin Ruane, Mayor, City of Sanibel, 800 Dunlop Road, Sanibel, FL 33957 | Planning and Code Enforcement Department, 800 Dunlop Road, Sanibel, FL 33957 | https://msc.fema.gov/portal/advanceSearch | Feb. 19, 2019 | 120402
Monroe | Unincorporated areas of Monroe County (18-04-6042P) | The Honorable David Rice, Mayor, Monroe County Board of Commissioners, 9400 Overseas Highway, Suite 210, Marathon, FL 33050 | Monroe County Building Department, 9400 Overseas Highway, Suite 300, Marathon, FL 33050 | https://msc.fema.gov/portal/advanceSearch | Feb. 22, 2019 | 125129
Monroe | Unincorporated areas of Monroe County (18-04-6309P) | The Honorable David Rice, Mayor, Monroe County Board of Commissioners, 9400 Overseas Highway, Suite 210, Marathon, FL 33050 | Monroe County Building Department, 9400 Overseas Highway, Suite 300, Marathon, FL 33050 | https://msc.fema.gov/portal/advanceSearch | Mar. 6, 2019 | 125129
Pasco | Unincorporated areas of Pasco County (17-04-7747P) | The Honorable Mike L. Wells, Chairman, Pasco County Board of Commissioners, 8731 Citizens Drive, Suite 100, New Port Richey, FL 34654 | Pasco County Building and Construction Services Department, 8731 Citizens Drive, New Port Richey, FL 34654 | https://msc.fema.gov/portal/advanceSearch | Feb. 28, 2019 | 120230
Polk | Unincorporated areas of Polk County (18-04-5171P) | The Honorable R. Todd Dantzler, Chairman, Polk County Board of Commissioners, P.O. Box 9005, Bartow, FL 33831 | Polk County Administration Building, 330 West Church Street, Bartow, FL 33831 | https://msc.fema.gov/portal/advanceSearch | Feb. 28, 2019 | 120261
Sarasota | Unincorporated areas of Sarasota County (18-04-6698P) | The Honorable Nancy Detert, Chair, Sarasota County Board of Commissioners, 1660 Ringling Boulevard, Sarasota, FL 34236 | Sarasota County Planning and Development Services Department, 1001 Sarasota Center Boulevard, Sarasota, FL 34236 | https://msc.fema.gov/portal/advanceSearch | Mar. 8, 2019 | 125144
Maryland: Somerset | Unincorporated areas of Somerset County (18-03-1921P) | The Honorable Randy Laird, President, Somerset County Commission, 11916 Somerset Avenue, Room 111, Princess Anne, MD 21853 | Somerset County Department of Technical and Community Services, 11916 Somerset Avenue, Room 211, Princess Anne, MD 21853 | https://msc.fema.gov/portal/advanceSearch | Feb. 28, 2019 | 240061
New Hampshire: Hillsborough | City of Manchester (18-01-0929P) | The Honorable Joyce Craig, Mayor, City of Manchester, One City Hall Plaza, Manchester, NH 03101 | Planning Department, One City Hall Plaza, Manchester, NH 03101 | https://msc.fema.gov/portal/advanceSearch | Feb. 14, 2019 | 330169
North Carolina: Montgomery | Unincorporated areas of Montgomery County (18-04-1965P) | The Honorable Jackie Morris, Chairman, Montgomery County Board of Commissioners, 102 East Spring Street, Troy, NC 27371 | Montgomery County Inspections and Zoning Department, 219 South Main Street, Troy, NC 27371 | https://msc.fema.gov/portal/advanceSearch | Nov. 23, 2019 | 370336
South Dakota: Lawrence | City of Spearfish (18-08-0274P) | The Honorable Dana Boke, Mayor, City of Spearfish, 625 5th Street, Spearfish, SD 57783 | City Hall, 625 5th Street, Spearfish, SD 57783 | https://msc.fema.gov/portal/advanceSearch | Feb. 25, 2019 | 460046
Texas:
Bexar | City of San Antonio (18-06-0893P) | The Honorable Ron Nirenberg, Mayor, City of San Antonio, P.O. Box 839966, San Antonio, TX 78283 | Transportation and Capital Improvements Department, Stormwater Division, 1901 South Alamo Street, 2nd Floor, San Antonio, TX 78204 | https://msc.fema.gov/portal/advanceSearch | Feb. 4, 2019 | 480045
Bexar | City of San Antonio (18-06-1813P) | The Honorable Ron Nirenberg, Mayor, City of San Antonio, P.O. Box 839966, San Antonio, TX 78283 | Transportation and Capital Improvements Department, Stormwater Division, 1901 South Alamo Street, 2nd Floor, San Antonio, TX 78204 | https://msc.fema.gov/portal/advanceSearch | Mar. 4, 2019 | 480045
Denton | City of Denton (18-06-2351P) | The Honorable Chris A. Watts, Mayor, City of Denton, 215 East McKinney Street, Suite 100, Denton, TX 76201 | Engineering Services Department, 901-A Texas Street, Denton, TX 76509 | https://msc.fema.gov/portal/advanceSearch | Feb. 25, 2019 | 480194
Denton | City of The Colony (18-06-1146P) | The Honorable Joe McCourry, Mayor, City of The Colony, 6800 Main Street, The Colony, TX 75056 | Engineering Department, 6800 Main Street, The Colony, TX 75056 | https://msc.fema.gov/portal/advanceSearch | Feb. 19, 2019 | 481581
Denton | Town of Flower Mound (18-06-2274P) | The Honorable Steve Dixon, Mayor, Town of Flower Mound, 2121 Cross Timbers Road, Flower Mound, TX 75028 | Town Hall, 2121 Cross Timbers Road, Flower Mound, TX 75028 | https://msc.fema.gov/portal/advanceSearch | Feb. 19, 2019 | 480777
Harris | Unincorporated areas of Harris County (18-06-2182P) | The Honorable Edward M. Emmett, Harris County Judge, 1001 Preston Street, Suite 911, Houston, TX 77002 | Harris County Permit Department, 10555 Northwest Freeway, Suite 120, Houston, TX 77092 | https://msc.fema.gov/portal/advanceSearch | Feb 4, 2019 | 480287
Tarrant | City of Saginaw (18-06-0438P) | The Honorable Todd Flippo, Mayor, City of Saginaw, 333 West McLeroy Boulevard, Saginaw, TX 76179 | Department of Public Works, 205 Brenda Lane, Saginaw, TX 76179 | https://msc.fema.gov/portal/advanceSearch | Mar. 22, 2019 | 480610
Taylor | City of Abilene (18-06-0761P) | The Honorable Anthony Williams, Mayor, City of Abilene, P.O. Box 60, Abilene, TX 79604 | City Hall, 555 Walnut Street, Abilene, TX 79601 | https://msc.fema.gov/portal/advanceSearch | Feb. 25, 2019 | 485450
Travis | City of Austin (18-06-1298P) | Mr. Spencer Cronk, Manager, City of Austin, P.O. Box 1088, Austin, TX 78767 | Watershed Protection Department, 505 Barton Springs Road, 12th Floor, Austin, TX 78704 | https://msc.fema.gov/portal/advanceSearch | Feb. 25, 2019 | 480624
Travis | Unincorporated areas of Travis County (18-06-1298P) | The Honorable Sarah Eckhardt, Travis County Judge, P.O. Box 1748, Austin, TX 78767 | Travis County Transportation and Natural Resources Department, 700 Lavaca Street, 5th Floor, Austin, TX 78767 | https://msc.fema.gov/portal/advanceSearch | Feb. 25, 2019 | 481026
Virginia:
Chesterfield | Unincorporated areas of Chesterfield County (18-03-1312P) | Mr. Joseph P. Casey, Administrator, Chesterfield County, P.O. Box 40, Chesterfield, VA 23832 | Chesterfield County Department of Environmental Engineering, 9800 Government Center Parkway, Chesterfield, VA 23832 | https://msc.fema.gov/portal/advanceSearch | Feb. 26, 2019 | 510035
Independent City | City of Harrisonburg (18-03-1944P) | The Honorable Deanna R. Reed, Mayor, City of Harrisonburg, 409 South Main Street, Harrisonburg, VA 22801 | Department of Planning and Community Development, 409 South Main Street, Harrisonburg, VA 22801 | https://msc.fema.gov/portal/advanceSearch | Feb. 14, 2019 | 510076

[FR Doc. 2018-26937 Filed 12-12-18; 8:45 am]

BILLING CODE 9110-12-P